ENVIRONMENTAL PROTECTION AGENCY

40 CFR Parts 60, 61, and 63

[FRL-7598-4]

Delegation of Authority to the States of Iowa; Kansas; Missouri; Nebraska; Lincoln-Lancaster County, NE; and City of Omaha, NE, for New Source Performance Standards (NSPS), National Emission Standards for Hazardous Air Pollutants (NESHAP); and Maximum Achievable Control Technology (MACT) Sources

AGENCY: Environmental Protection Agency (EPA).

ACTION: Notice of delegation of authority.

SUMMARY: The states of Iowa, Kansas, Missouri, Nebraska, and the local agencies of Lincoln-Lancaster County, Nebraska, and city of Omaha, Nebraska, have submitted updated regulations for delegation of EPA authority for implementation and enforcement of NSPS, NESHAP, and MACT. The submissions cover new EPA standards and, in some instances, revisions to standards previously delegated. EPA's review of the pertinent regulations shows that they contain adequate and effective procedures for the implementation and enforcement of these Federal standards. This action informs the public of delegations to the above-mentioned agencies.

DATES: This document is effective on December 11, 2003. The dates of delegation can be found in the SUPPLEMENTARY INFORMATION section of this document.

ADDRESSES: Copies of documents relative to this action are available for public inspection during normal business hours at the Environmental Protection Agency, Air Planning and Development Branch, 901 North 5th Street, Kansas City, Kansas 66101. The interested persons wanting to examine these documents should make an appointment with the office at least 24 hours in advance.

Effective immediately, all notifications, applications, reports, and other correspondence required pursuant to the newly delegated standards and revisions identified in this document should be submitted to the Region 7 office, and, with respect to sources located in the jurisdictions identified in this document, to the following addresses:

Iowa Department of Natural Resources, Air Quality Bureau, 7900 Hickman Road, Urbandale, Iowa 50322.

Kansas Department of Health and Environment, Bureau of Air and Radiation, 1000 S.W. Jackson, Suite 310, Topeka, Kansas 66612.

Missouri Department of Natural Resources, Air Pollution Control Program, Jefferson State Office Building, P.O. Box 176, Jefferson City, Missouri 65102.

Nebraska Department of Environmental Quality, Air and Waste Management Division, P.O. Box 98922, Statehouse Station, Lincoln, Nebraska 68509.

Lincoln-Lancaster County Division of Environmental Health, Air Pollution Control Agency, 3140 “N” Street, Lincoln, Nebraska 68510.

City of Omaha, Public Works Department, Air Quality Control Division, 5600 South 10th Street, Omaha, Nebraska 68107.

FOR FURTHER INFORMATION CONTACT: Wayne Kaiser at (913) 551-7603, or by e-mail at kaiser.wayne@epa.gov.

SUPPLEMENTARY INFORMATION: The supplementary information is organized in the following order:

What does this action do?

What is the authority for delegation?

What does delegation accomplish?

What has been delegated?

What has not been delegated?

List of Delegation Tables

Table I—NSPS, 40 CFR part 60

Table II—NESHAP, 40 CFR part 61

Table III—NESHAP, 40 CFR part 63

What Does This Action Do?

The EPA is providing notice that it has delegated authority for implementation and enforcement of the Federal standards shown in the tables below to the state and local air agencies in Region 7. This rule updates the delegation tables previously published at 67 FR 70170 (November 21, 2003). The EPA has established procedures by which these agencies are automatically delegated the authority to implement the standards when they adopt regulations which are identical to the Federal standards. We then periodically provide notice of the new and revised standards for which delegation has been given.

What Is the Authority for Delegation?

1. Section 111(c)(1) of the Clean Air Act (CAA) authorizes EPA to delegate authority to any state agency which submits adequate regulatory procedures for implementation and enforcement of the NSPS program. The NSPS are codified at 40 CFR part 60.

2. Section 112(l) of the CAA and 40 CFR part 63, subpart E, authorizes the EPA to delegate authority to any state or local agency which submits adequate regulatory procedures for implementation and enforcement of emission standards for hazardous air pollutants. The hazardous air pollutant standards are codified at 40 CFR parts 61 and 63, respectively.

What Does Delegation Accomplish?

Delegation confers primary responsibility for implementation and enforcement of the listed standards to the respective state and local air agencies. However, EPA also retains the authority to enforce the standards if it so desires.

What Has Been Delegated?

Tables I, II, and III below list the delegated standards. The first date in each block is the reference date to the CFR contained in the state rule. In general, the state or local agency has adopted the applicable standard through this date as noted in the table. The second date is the most recent effective date of the state agency rule for which the EPA has granted the delegation.

What Has Not Been Delegated?

1. The EPA regulations effective after the first date specified in each block have not been delegated, and authority for implementation of these regulations is retained solely by EPA.

2. In some cases, the standards themselves specify that specific provisions cannot be delegated. You should review the applicable standard for this information.

3. In some cases, the agency rules do not adopt the Federal standard in its entirety. Each agency rule (available from the respective agency) should be consulted for specific information.

4. In some cases, existing delegation agreements between the EPA and the agencies limit the scope of the delegated standards. Copies of delegation agreements are available from the state agencies, or from this office.

5. With respect to 40 CFR part 63, subpart A, General Provisions (see Table III), the EPA has determined that §§ 63.6(g), 63.6(h)(9), 63.7(e)(2)(ii) and (f), 63.8(f), and 63.10(f) cannot be delegated. Additional information is contained in an EPA memorandum titled “Delegation of 40 CFR Part 63 General Provisions Authorities to State and Local Air Pollution Control Agencies” from John Seitz, Director, Office of Air Quality Planning and Standards, dated July 10, 1998.

List of Delegation Tables

Table I.—Delegation of Authority—Part 60 NSPS—Region 7
Subpart | Source category | State of Iowa | State of Kansas | State of Missouri | State of Nebraska
A | General Provisions | 12/31/01 10/23/03 | 07/01/98 06/11/99 | 06/30/02 10/30/03 | 07/01/01 07/10/02
D | Fossil-Fuel Fired Steam Generators for Which Construction Is Commenced After August 17, 1971 | 12/31/01 10/23/03 | 07/01/98 06/11/99 | 06/30/02 10/30/03 | 07/01/01 07/10/02
Da | Electric Utility Steam Generating Units for Which Construction Is Commenced After September 18, 1978 | 12/31/01 10/23/03 | 07/01/98 06/11/99 | 06/30/02 10/30/03 | 07/01/01 07/10/02
Db | Industrial-Commercial-Institutional Steam Generating Units | 12/31/01 10/23/03 | 07/01/98 06/11/99 | 06/30/02 10/30/03 | 07/01/01 07/10/02
Dc | Small Industrial-Commercial-Institutional Steam Generating Units | 12/31/01 10/23/03 | 07/01/98 06/11/99 | 06/30/02 10/30/03 | 07/01/01 07/10/02
E | Municipal Incinerators | 12/31/01 10/23/03 | 07/01/98 06/11/99 | 06/30/02 10/30/03 | 07/01/01 07/10/02
Ea | Municipal Waste Combustors Constructed After December 20, 1989, and On or Before September 20 1994 | 12/31/01 10/23/03 | 07/01/98 06/11/99 | 06/30/02 10/30/03 | 07/01/01 07/10/02
Eb | Municipal Waste Combustors for Which Construction Is Commenced After September 20, 1994 | 12/31/01 10/23/03 | 07/01/98 06/11/99 | 06/30/02 10/30/03 | 07/01/01 07/10/02
Ec | Hospital/Medical/Infectious Waste Incinerators for Which Construction Commenced After June 20, 1996 | 12/31/01 10/23/03 | 07/01/98 06/11/99 | 06/30/02 10/30/03 | 07/01/01 07/10/02
F | Portland Cement Plants | 12/31/01 10/23/03 | 07/01/98 06/11/99 | 06/30/02 10/30/03 | 07/01/01 07/10/02
G | Nitric Acid Plants | 12/31/01 10/23/03 | 07/01/98 06/11/99 | 06/30/02 10/30/03 | 07/01/01 07/10/02
H | Sulfuric Acid Plants | 12/31/01 10/23/03 | 07/01/98 06/11/99 | 06/30/02 10/30/03 | 07/01/01 07/10/02
I | Asphaltic Concrete Plants | 12/31/01 10/23/03 | 07/01/98 06/11/99 | 06/30/02 10/30/03 | 07/01/01 07/10/02
J | Petroleum Refineries | 12/31/01 10/23/03 | 07/01/98 06/11/99 | 06/30/02 10/30/03 | 07/01/01 07/10/02
K | Storage Vessels for Petroleum Liquid for Which Construction, Reconstruction, or Modification Commenced After June 11, 1973, and Prior to May 19, 1978 | 12/31/01 10/23/03 | 07/01/98 06/11/99 | 06/30/02 10/30/03 | 07/01/01 07/10/02
Ka | Storage Vessels for Petroleum Liquid for Which Construction, Reconstruction, or Modification Commenced After May 18, 1978, and Prior to July 23, 1984 | 12/31/01 10/23/03 | 07/01/98 06/11/99 | 06/30/02 10/30/03 | 07/01/01 07/10/02
Kb | Volatile Organic Liquid Storage Vessels for Which Construction, Reconstruction, or Modification Commenced After July 23, 1984 | 12/31/01 10/23/03 | 07/01/98 06/11/99 | 06/30/02 10/30/03 | 07/01/01 07/10/02
L | Secondary Lead Smelters | 12/31/01 10/23/03 | 07/01/98 06/11/99 | 06/30/02 10/30/03 | 07/01/01 07/10/02
M | Brass & Bronze Production Plants | 12/31/01 10/23/03 | 07/01/98 06/11/99 | 06/30/02 10/30/03 | 07/01/01 07/10/02
N | Basic Oxygen Process Furnaces for Which Construction Is Commenced After June 11, 1973 | 12/31/01 10/23/03 | 07/01/98 06/11/99 | 06/30/02 10/30/03 | 07/01/01 07/10/02
Na | Basic Oxygen Process Steelmaking Facilities for Which Construction Is Commenced After January 20, 1983 | 12/31/01 10/23/03 | 07/01/98 06/11/99 | 06/30/02 10/30/03 | 07/01/01 07/10/02
O | Sewage Treatment Plants | 12/31/01 10/23/03 | 07/01/98 06/11/99 | 06/30/02 10/30/03 | 07/01/01 07/10/02
P | Primary Copper Smelters | 12/31/01 10/23/03 | 07/01/98 06/11/99 | 06/30/02 10/30/03 | 07/01/01 07/10/02
Q | Primary Zinc Smelters | 12/31/01 10/23/03 | 07/01/98 06/11/99 | 06/30/02 10/30/03 | 07/01/01 07/10/02
R | Primary Lead Smelters | 12/31/01 10/23/03 | 07/01/98 06/11/99 | 06/30/02 10/30/03 | 07/01/01 07/10/02
S | Primary Aluminum Reduction Plants | 12/31/01 10/23/03 | 07/01/98 06/11/99 | 06/30/02 10/30/03 | 07/01/01 07/10/02
T | Wet Process Phosphoric Acid Plants | 12/31/01 10/23/03 | 07/01/98 06/11/99 | 06/30/02 10/30/03 | 07/01/01 07/10/02
U | Superphosphoric Acid Plants | 12/31/01 10/23/03 | 07/01/98 06/11/99 | 06/30/02 10/30/03 | 07/01/01 07/10/02
V | Diammonium Phosphate Plants | 12/31/01 10/23/03 | 07/01/98 06/11/99 | 06/30/02 10/30/03 | 07/01/01 07/10/02
W | Triple Superphosphate Plants | 12/31/01 10/23/03 | 07/01/98 06/11/99 | 06/30/02 10/30/03 | 07/01/01 07/10/02
X | Granular Triple Superphosphate Storage Facilities | 12/31/01 10/23/03 | 07/01/98 06/11/99 | 06/30/02 10/30/03 | 07/01/01 07/10/02
Y | Coal Preparation Plants | 12/31/01 10/23/03 | 07/01/98 06/11/99 | 06/30/02 10/30/03 | 07/01/01 07/10/02
Z | Ferroalloy Production Facilities | 12/31/01 10/23/03 | 07/01/98 06/11/99 | 06/30/02 10/30/03 | 07/01/01 07/10/02
AA | Steel Plant Electric Arc Furnaces Constructed After October 21, 1974, and On or Before August 17, 1983 | 12/31/01 10/23/03 | 07/01/98 06/11/99 | 06/30/02 10/30/03 | 07/01/01 07/10/02
AAa | Steel Plant Electric Arc Furnaces & Argon-Oxygen Decarburization Vessels Constructed After August 17, 1983 | 12/31/01 10/23/03 | 07/01/98 06/11/99 | 06/30/02 10/30/03 | 07/01/01 07/10/02
BB | Kraft Pulp Mills | 12/31/01 10/23/03 | 07/01/98 06/11/99 | 06/30/02 10/30/03 |
CC | Glass Manufacturing Plants | 12/31/01 10/23/03 | 07/01/98 06/11/99 | 06/30/02 10/30/03 | 07/01/01 07/10/02
DD | Grain Elevators | 12/31/01 10/23/03 | 07/01/98 06/11/99 | 06/30/02 10/30/03 | 07/01/01 07/10/02
EE | Surface Coating of Metal Furniture | 12/31/01 10/23/03 | 07/01/98 06/11/99 | 06/30/0 10/30/03 | 07/01/01 07/10/02
GG | Stationary Gas Turbines | 12/31/01 10/23/03 | 07/01/98 06/11/99 | 06/30/02 10/30/03 | 07/01/01 07/10/02
HH | Lime Manufacturing Plants | 12/31/01 10/23/03 | 07/01/98 06/11/99 | 06/30/02 10/30/03 | 07/01/01 07/10/02
KK | Lead-Acid Battery Manufacturing Plants | 12/31/01 10/23/03 | 07/01/98 06/11/99 | 06/30/02 10/30/03 | 07/01/01 07/10/02
LL | Metallic Mineral Processing Plants | 12/31/01 10/23/03 | 07/01/98 06/11/99 | 06/30/02 10/30/03 | 07/01/01 07/10/02
MM | Auto & Light-Duty Truck Surface Coating Operations | 12/31/01 10/23/03 | 07/01/98 06/11/99 | 06/30/02 10/30/03 | 07/01/01 07/10/02
NN | Phosphate Rock Plants | 12/31/01 10/23/03 | 07/01/98 06/11/99 | 06/30/02 10/30/03 | 07/01/01 07/10/02
PP | Ammonium Sulfate Manufacture | 12/31/01 10/23/03 | 07/01/98 06/11/99 | 06/30/02 10/30/03 | 07/01/01 07/10/02
QQ | Graphic Arts Industry: Publication Rotogravure Printing | 12/31/01 10/23/03 | 07/01/98 06/11/99 | 06/30/02 10/30/03 | 07/01/01 07/10/02
RR | Pressure Sensitive Tape & Label Surface Coating Operations | 12/31/01 10/23/03 | 07/01/98 06/11/99 | 06/30/02 10/30/03 | 07/01/01 07/10/02
SS | Industrial Surface Coating: Large Appliances | 12/31/01 10/23/03 | 07/01/98 06/11/99 | 06/30/02 10/30/03 | 07/01/01 07/10/02
TT | Metal Coil Surface Coating | 12/31/01 10/23/03 | 07/01/98 06/11/99 | 06/30/02 10/30/03 | 07/01/01 07/10/02
UU | Asphalt Processing & Asphalt Roofing Manufacture | 12/31/01 10/23/03 | 07/01/98 06/11/99 | 06/30/02 10/30/03 | 07/01/01 07/10/02
VV | SOCMI Equipment Leaks (VOC) | 12/31/01 10/23/03 | 07/01/98 06/11/99 | 06/30/02 10/30/03 | 07/01/01 07/10/02
WW | Beverage Can Surface Coating Industry | 12/31/01 10/23/03 | 07/01/98 06/11/99 | 06/30/02 10/30/03 | 07/01/01 07/10/02
XX | Bulk Gasoline Terminals | 12/31/01 10/23/03 | 07/01/98 06/11/99 | 06/30/02 10/30/03 | 07/01/01 07/10/02
AAA | New Residential Wood Heaters | 12/31/01 10/23/03 | 07/01/98 06/11/99 | 06/30/02 10/30/03 | 07/01/01 07/10/02
BBB | Rubber Tire Manufacturing Industry | 12/31/01 10/23/03 | 07/01/98 06/11/99 | 06/30/02 10/30/03 | 07/01/01 07/10/02
DDD | Polymer Manufacturing Industry (VOC) | 12/31/01 10/23/03 | 07/01/98 06/11/99 | 06/30/02 10/30/03 | 07/01/01 07/10/02
FFF | Flexible Vinyl and Urethane Coating and Printing | 12/31/01 10/23/03 | 07/01/98 06/11/99 | 06/30/02 10/30/03 | 07/01/01 07/10/02
GGG | Equipment Leaks of VOC in Petroleum Refineries | 12/31/01 10/23/03 | 07/01/98 06/11/99 | 06/30/02 10/30/03 | 07/01/01 07/10/02
HHH | Synthetic Fiber Production Facilities | 12/31/01 10/23/03 | 07/01/98 06/11/99 | 06/30/02 10/30/03 | 07/01/01 07/10/02
III | SOCMI AIR Oxidation Unit Processes | 12/31/01 10/23/03 | 07/01/98 06/11/99 | 06/30/02 10/30/03 | 07/01/01 07/10/02
JJJ | Petroleum Dry Cleaners | 12/31/01 10/23/03 | 07/01/98 06/11/99 | 06/30/02 10/30/03 | 07/01/01 07/10/02
KKK | VOC Leaks from Onshore Natural Gas Processing Plants | 12/31/01 10/23/03 | 07/01/98 06/11/99 | 06/30/02 10/30/03 | 07/01/01 07/10/02
LLL | Onshore Natural Gas Processing: SO2 Emissions | 12/31/01 10/23/03 | 07/01/98 06/11/99 | 06/30/02 10/30/03 | 07/01/01 07/10/02
NNN | VOC Emissions from SOCMI Distillation Operations | 12/31/01 10/23/03 | 07/01/98 06/11/99 | 06/30/02 10/30/03 | 07/01/01 07/10/02
OOO | Nonmetallic Mineral Processing Plants | 12/31/01 10/23/03 | 07/01/98 06/11/99 | 06/30/02 10/30/03 | 07/01/01 07/10/02
PPP | Wool Fiberglass Insulation Manufacturing Plants | 12/31/01 10/23/03 | 07/01/98 06/11/99 | 06/30/02 10/30/03 | 07/01/01 07/10/02
QQQ | VOC Emissions from Petroleum Refinery Wastewater Systems | 12/31/01 10/23/03 | 07/01/98 06/11/99 | 06/30/02 10/30/03 | 07/01/01 07/10/02
RRR | VOC Emissions from SOCMI Reactor Processes | 12/31/01 10/23/03 | 07/01/98 06/11/99 | 06/30/02 10/30/03 | 07/01/01 07/10/02
SSS | Magnetic Tape Coating Facilities | 12/31/01 10/23/03 | 07/01/98 06/11/99 | 06/30/02 10/30/03 | 07/01/01 07/10/02
TTT | Surface Coating of Plastic Parts for Business Machines | 12/31/01 10/23/03 | 07/01/98 06/11/99 | 06/30/02 10/30/03 | 07/01/01 07/10/02
UUU | Calciners & Dryers in Mineral Industries | 12/31/01 10/23/03 | 07/01/98 06/11/99 | 06/30/02 10/30/03 | 07/01/01 07/10/02
VVV | Polymeric Coating of Supporting Substrates Facilities | 12/31/01 10/23/03 | 07/01/98 06/11/99 | 06/30/02 10/30/03 | 07/01/01 07/10/02
WWW | New Municipal Solid Waste Landfills Accepting Waste On or After May 30, 1991 | 12/31/01 10/23/03 | 07/01/98 06/11/99 | 06/30/02 10/30/03 | 07/01/01 07/10/02
AAAA | New Small Municipal Waste Combustion Units | 12/31/01 10/23/03 |  | 06/30/02 10/30/03 | 07/01/01 07/10/02
CCCC | New Commercial and Industrial Solid Waste Incineration Units | 12/31/01 10/23/03 |  | 06/30/02 10/30/03 | 07/01/01 07/10/02

Table II.—Delegation of Authority—Part 61 NESHAP—Region 7
Subpart | Source category | State of Iowa | State of Kansas | State of Missouri | State of Nebraska | Lincoln- Lancaster County | City of Omaha
A | General Provisions | 10/14/97 05/13/98 | 07/01/98 06/11/99 | 06/30/02 10/30/03 | 07/01/01 07/10/02 | 07/01/92 07/31/01 | 07/01/01 04/18/03
B | Radon Emissions From Underground Uranium Mines |  | 07/01/98 06/11/99 |  |  |  |
C | Beryllium | 10/14/97 05/13/98 | 07/01/98 06/11/99 | 06/30/02 10/30/03 | 07/01/01 07/10/02 | 07/01/92 07/31/01 | 07/01/01 04/18/03
D | Beryllium Rocket Motor Firing | 10/14/97 12/23/98 | 07/01/98 06/11/99 | 06/30/02 10/30/03 | 07/01/01 07/10/02 | 07/01/92 07/31/01 | 07/01/01 04/18/03
E | Mercury | 10/14/97 05/13/98 | 07/01/98 06/11/99 | 06/30/02 10/30/03 | 07/01/01 07/10/02 | 07/01/92 07/31/01 | 07/01/01 04/18/03
F | Vinyl Chloride | 10/14/97 05/13/98 | 07/01/98 06/11/99 | 06/30/02 10/30/03 | 07/01/01 07/10/02 | 07/01/92 07/31/01 | 07/01/01 04/18/03
J | Equipment Leaks (Fugitive Emission Sources) of Benzene | 10/14/97 05/13/98 | 07/01/98 06/11/99 | 06/30/02 10/30/03 | 07/01/01 07/10/02 | 07/01/92 07/31/01 | 07/01/01 04/18/03
L | Benzene Emissions From Coke By-Product Recovery Plants | 10/14/97 05/13/98 | 07/01/98 06/11/99 | 06/30/02 10/30/03 | 07/01/01 07/10/02 | 07/01/92 07/31/01 | 07/01/01 04/18/03
M | Asbestos | 10/14/97 05/13/98 | 07/01/98 06/11/99 | 06/30/02 10/30/03 | 07/01/01 07/10/02 | 07/01/92 07/31/01 | 07/01/01 04/18/03
N | Inorganic Arsenic Emissions From Glass Manufacturing Plants | 10/14/97 05/13/98 | 07/01/98 06/11/99 | 06/30/02 10/30/03 | 07/01/01 07/10/02 | 07/01/92 07/31/01 | 07/01/01 04/18/03
O | Inorganic Arsenic Emissions From Primary Copper Smelters | 10/14/97 05/13/98 | 07/01/98 06/11/99 | 06/30/02 10/30/03 | 07/01/01 07/10/02 | 07/01/92 07/31/01 | 07/01/01 04/18/03
P | Inorganic Arsenic Emissions From Arsenic Trioxide and Metallic Arsenic Production Facilities | 10/14/97 05/13/98 | 07/01/98 06/11/99 | 06/30/02 10/30/03 | 07/01/01 07/10/02 | 07/01/92 07/31/01 | 07/01/01 04/18/03
Q | Radon Emissions From Department of Energy Facilities |  | 07/01/98 06/11/99 |  |  |  |
R | Radon Emissions From Phosphogypsum Stacks |  | 07/01/98 06/11/99 |  |  |  |
T | Radon Emissions From the Disposal of Uranium Mill Tailings |  | 07/01/98 06/11/99 |  |  |  |
V | Equipment Leaks (Fugitive Emission Sources) | 10/14/97 05/13/98 | 07/01/98 06/11/99 | 06/30/02 10/30/03 | 07/01/01 07/10/02 | 07/01/92 07/31/01 | 07/01/01 04/18/03
W | Radon Emissions From Operating Mill Tailings |  | 07/01/98 06/11/99 |  |  |  |
Y | Benzene Emissions From Benzene Storage Vessels | 10/14/97 05/13/98 | 07/01/98 06/11/99 | 06/30/02 10/30/03 | 07/01/01 07/10/02 | 07/01/92 07/31/01 | 07/01/01 04/18/03
BB | Benzene Emissions From Benzene Transfer Operations | 10/14/97 05/13/98 | 07/01/98 06/11/99 | 06/30/02 10/30/03 | 07/01/01 07/10/02 | 07/01/92 07/31/01 | 07/01/01 04/18/03
FF | Benzene Waste Operations | 10/14/97 05/13/98 | 07/01/98 06/11/99 | 06/30/02 10/30/03 | 07/01/01 07/10/02 | 07/01/92 07/31/01 | 07/01/01 04/18/03

Table III.—Delegation of Authority—Part 63 NESHAP—Region 7
Subpart | Source category | State of Iowa | State of Kansas | State of Missouri | State of Nebraska | Lincoln- Lancaster County | City of Omaha
A | General Provisions | 04/29/03 10/23/03 | 07/01/98 06/11/99 | 06/30/02 10/30/03 | 07/01/01 07/10/02 | 07/01/00 07/31/01 | 07/01/01 04/18/03
B | Requirements for Control Technology Determinations for Major Sources in Accordance With Clean Air Act Section 112(g) & (j) | 04/29/03 10/23/03 | 07/01/98 06/11/99 | 12/31/00 11/20/02 | 04/05/02 11/20/02 |  | 04/05/02 04/18/03 (112 (g) only)
D | Compliance Extensions for Early Reductions of Hazardous Air Pollutants | 04/29/03 10/23/03 | 07/01/98 06/11/99 | 12/31/00 09/30/02 | 12/29/92 11/20/02 | 11/21/94 07/31/01 | 12/29/92 04/18/03
F | Organic Hazardous Air Pollutants From the Synthetic Organic Chemical Manufacturing Industry for Tetrahydrobenzaldehyde Manufacturing | 04/29/03 10/23/03 | 07/01/98 06/11/99 | 06/30/02 10/30/03 | 07/01/01 07/10/02 | 07/01/00 07/31/01 | 07/01/01 04/18/03
G | Organic Hazardous Air Pollutants From the Synthetic Organic Chemical Manufacturing Industry for Process Vents, Storage Vessels, Transfer Operations, and Wastewater | 04/29/03 10/23/03 | 07/01/98 06/11/99 | 06/30/02 10/30/03 | 07/01/01 07/10/02 | 07/01/00 07/31/01 | 07/01/01 04/18/03
H | Organic Hazardous Air Pollutants for Equipment Leaks | 04/29/03 10/23/03 | 07/01/98 06/11/99 | 06/30/02 10/30/03 | 07/01/01 07/10/02 | 07/01/00 07/31/01 | 07/01/01 04/18/03
I | Organic Hazardous Air Pollutants for Certain Processes Subject to the Negotiated Regulation for Equipment Leaks | 04/29/03 10/23/03 | 07/01/98 06/11/99 | 06/30/02 10/30/03 | 07/01/01 07/10/02 | 07/01/00 07/31/01 | 07/01/01 04/18/03
J | Polyvinyl Chloride and Copolymers Production | 04/29/03 10/23/03 |  |  |  |  |
L | Coke Ovens | 04/29/03 10/23/03 | 07/01/98 06/11/99 | 06/30/02 10/30/03 |  |  |
M | Dry Cleaning Facilities | 04/29/03 10/23/03 | 07/01/98 06/11/99 | 06/30/02 10/30/03 | 07/01/01 07/10/02 | 07/01/00 07/31/01 | 07/01/01 04/18/03
N | Chromium Emissions From Hard and Decorative Chromium Electroplating Anodizing Tanks | 04/29/03 10/23/03 | 07/01/98 06/11/99 | 06/30/02 10/30/03 | 07/01/01 07/10/02 | 07/01/00 07/31/01 | 07/01/01 04/18/03
O | Ethylene Oxide Sterilization Facilities | 04/29/03 10/23/03 | 07/01/98 06/11/99 | 06/30/02 10/30/03 | 07/01/01 07/10/02 | 07/01/00 07/31/01 | 07/01/01 04/18/03
Q | Industrial Process Cooling Towers | 04/29/03 10/23/03 | 07/01/98 06/11/99 | 06/30/02 10/30/03 | 07/01/01 07/10/02 | 07/01/00 07/31/01 | 07/01/01 04/18/03
R | Gasoline Distribution (Stage 1) | 04/29/03 10/23/03 | 07/01/98 06/11/99 | 06/30/02 10/30/03 | 07/01/01 07/10/02 | 07/01/00 07/31/01 | 07/01/98 04/18/03
S | Pulp and Paper MACT I and MACT III | 04/29/03 10/23/03 | 07/01/98 06/11/99 | 06/30/02 10/30/03 | 07/01/01 07/10/02 | 07/01/00 07/31/01 | 07/01/01 04/18/03
T | Halogenated Solvent Cleaning | 04/29/03 10/23/03 | 07/01/98 06/11/99 | 06/30/02 10/30/03 | 07/01/01 07/10/02 | 07/01/00 07/31/01 | 07/01/01 04/18/03
U | Polymers and Resins Group I | 04/29/03 10/23/03 | 07/01/98 06/11/99 | 06/30/02 10/30/03 | 07/01/01 07/10/02 | 07/01/00 07/31/01 | 07/01/01 04/18/03
W | Polymers & Resins II | 04/29/03 10/23/03 | 07/01/98 06/11/99 | 06/30/02 10/30/03 | 07/01/01 07/10/02 | 07/01/00 07/31/01 | 07/01/01 04/18/03
X | Secondary Lead Smelting | 04/29/03 10/23/03 | 07/01/98 06/11/99 | 06/30/02 10/30/03 | 07/01/01 07/10/02 | 07/01/00 07/31/01 | 07/01/01 04/18/03
Y | Marine Tank Vessel Loading Operations | 04/29/03 10/23/03 | 07/01/98 06/11/99 | 06/30/02 10/30/03 |  |  |
AA/BB | Phosphoric Acid/ Phosphate Fertilizers | 04/29/03 10/23/03 |  | 06/30/02 10/30/03 | 07/01/01 07/10/02 | 07/01/00 07/31/01 | 07/01/01 04/18/03
CC | Petroleum Refineries | 04/29/03 10/23/03 | 07/01/98 06/11/99 | 06/30/02 10/30/03 | 07/01/01 07/10/02 | 07/81/97 07/31/01 | 07/01/01 04/18/03
DD | Off-Site Waste Recovery Operations | 04/29/03 10/23/03 | 07/01/98 06/11/99 | 06/30/02 10/30/03 | 07/01/01 07/10/02 | 07/01/00 07/31/01 | 07/01/01 04/18/03
EE | Magnetic Tape Manufacturing | 04/29/03 10/23/03 | 07/01/98 06/11/99 | 06/30/02 10/30/03 | 07/01/01 07/10/02 | 07/01/00 07/31/01 | 07/01/01 04/18/03
GG | Aerospace Manufacturing and Rework Facilities | 04/29/03 10/23/03 | 07/01/98 06/11/99 | 06/30/02 10/30/03 | 07/01/01 07/10/02 | 07/01/00 07/31/01 | 07/01/01 04/18/03
HH | Oil & Natural Gas Production | 04/29/03 10/23/03 |  | 06/30/02 10/30/03 | 07/01/01 07/10/02 | 07/01/00 07/31/01 | 07/01/01 04/18/03
II | Shipbuilding and Ship Repair | 04/29/03 10/23/03 | 07/01/98 06/11/99 | 06/30/02 10/30/03 |  |  |
JJ | Wood Furniture Manufacturing Operations | 04/29/03 10/23/03 | 07/01/98 06/11/99 | 06/30/02 10/30/03 | 07/01/01 07/10/02 | 07/01/00 07/31/01 | 07/01/01 04/18/03
KK | Printing and Publishing Industry | 04/29/03 10/23/03 | 07/01/98 06/11/99 | 06/30/02 10/30/03 | 07/01/01 07/10/02 | 07/01/00 07/31/01 | 07/01/01 04/18/03
LL | Primary Aluminum Production | 04/29/03 10/23/03 | 07/01/98 06/11/99 | 06/30/02 10/30/03 | 07/01/01 07/10/02 | 07/01/00 07/31/01 | 07/01/01 04/18/03
MM | Combustion Sources at Kraft, Soda, and Sulfite Pulp & Paper Mills | 04/29/03 10/23/03 |  | 06/30/02 10/30/03 | 07/01/01 07/10/02 |  | 07/01/01 04/18/03
OO | Tanks—Level 1 |  | 07/01/98 06/11/99 | 06/30/02 10/30/03 | 07/01/01 07/10/02 | 07/01/00 07/31/01 | 07/01/01 04/18/03
PP | Containers |  | 07/01/98 06/11/99 | 06/30/02 10/30/03 | 07/01/01 07/10/02 | 07/01/00 07/31/01 | 07/01/01 04/18/03
QQ | Surface Impoundments |  | 07/01/98 06/11/99 | 06/30/02 10/30/03 | 07/01/01 07/10/02 | 07/01/00 07/31/01 | 07/01/01 04/18/03
RR | Individual Drain Systems |  | 07/01/98 06/11/99 | 06/30/02 10/30/03 | 07/01/01 07/10/02 | 07/01/00 07/31/01 | 07/01/01 04/18/03
SS | Closed Vent Systems, Control Devices, Recovery Devices and Routing to a Fuel Gas System or a Process | 04/29/03 10/23/03 |  | 06/30/02 10/30/03 | 07/01/01 07/10/02 | 07/01/00 07/31/01 | 07/01/01 04/18/03
TT | Equipment Leaks—Control Level 1 Standards | 04/29/03 10/23/03 |  | 06/30/02 10/30/03 | 07/01/01 07/10/02 | 07/01/00 07/31/01 | 07/01/01 04/18/03
UU | Equipment Leaks—Control Level 2 Standards | 04/29/03 10/23/03 |  | 06/30/02 10/30/03 | 07/01/01 07/10/02 | 07/01/00 07/31/01 | 07/01/01 04/18/03
VV | Oil-Water Separators & Organic-Water Separators |  | 07/01/98 06/11/99 | 06/30/02 10/30/03 | 07/01/01 07/10/02 | 07/01/00 07/31/01 | 07/01/01 04/18/03
WW | Storage Vessel (Tanks)—Control Level 2 | 04/29/03 10/23/03 |  | 06/30/02 10/30/03 | 07/01/01 07/10/02 | 07/01/00 07/31/01 | 07/01/01 04/18/03
YY | Generic MACT+, FR 6/29/99: Acetal Resins, Hydrogen Fluoride, Polycarbonates Prod., Acrylic/Modacrylic Fibers. FR 7/12/02: Carbon Black Prod., Cyanide Chemicals Mfg., Ethylene Proc., Spandex Prod. | 04/29/03 10/23/03 |  | 06/30/02 10/30/03 | 07/01/01 07/10/02 | 07/01/00 07/31/01 | 07/01/01 04/18/03
XX | Ethylene Manuf. Process Units | 04/29/03 10/23/03
CCC | Steel Pickling-HCL Process | 04/29/03 10/23/03 |  | 06/30/02 10/30/03 | 07/01/01 07/10/02 | 07/01/00 07/31/01 | 07/01/01 04/18/03
DDD | Mineral Wool Production | 04/29/03 10/23/03 |  | 06/30/02 10/30/03 | 07/01/01 07/10/02 | 07/01/00 07/31/01 | 07/01/01 04/18/03
EEE | Hazardous Waste Combustors | 04/29/03 10/23/03 |  | 06/30/02 10/30/03 |  | 07/01/00 07/31/01 |
GGG | Pharmaceutical Production | 04/29/03 10/23/03 |  | 06/30/02 10/30/03 | 07/01/01 07/10/02 | 07/01/00 07/31/01 | 07/01/01 04/18/03
HHH | Natural Gas Transmission and Storage | 04/29/03 10/23/03 |  | 06/30/02 10/30/03 | 07/01/01 07/10/02 | 07/01/00 07/31/01 | 07/01/01 04/18/03
III | Flexible Polyurethane Foam Production | 04/29/03 10/23/03 |  | 06/30/02 10/30/03 | 07/01/01 07/10/02 | 07/01/00 07/31/01 | 07/01/01 04/18/03
JJJ | Polymers and Resins Group IV | 04/29/03 10/23/03 | 07/01/98 06/11/99 | 06/30/02 10/30/03 | 07/01/01 04/18/03
LLL | Portland Cement Manufacturing | 04/29/03 10/23/03 |  | 06/30/02 10/30/03 | 07/01/01 07/10/02 | 07/01/00 07/31/01 | 07/01/01 04/18/03
MMM | Pesticide Active Ingredient Production | 04/29/03 10/23/03 |  | 06/30/02 10/30/03 | 07/01/01 07/10/02 | 07/01/00 07/31/01 | 07/01/01 04/18/03
NNN | Wool Fiberglass Manufacturing | 04/29/03 10/23/03 |  | 06/30/02 10/30/03 | 07/01/01 07/10/02 | 07/01/00 07/31/01 | 07/01/01 04/18/03
OOO | Polymers & Resins III, Amino Resins/Phenolic Resins | 04/29/03 10/23/03 |  | 06/30/02 10/30/03 | 07/01/01 07/10/02 | 07/01/00 07/31/01 | 07/01/01 04/18/03
PPP | Polyether Polyols Production | 04/29/03 10/23/03 |  | 06/30/02 10/30/03 | 07/01/01 07/10/02 | 07/01/00 07/31/01 | 07/01/01 04/18/03
QQQ | Primary Copper | 04/29/03 10/23/03 |  | 06/30/02 10/30/03 |  |  |
RRR | Secondary Aluminum | 04/29/03 10/23/03 |  | 06/30/02 10/30/03 | 07/01/01 07/10/02 |  | 07/01/01 04/18/03
TTT | Primary Lead Smelting | 04/29/03 10/23/03 |  | 06/30/02 10/30/03 | 07/01/01 07/10/02 | 07/01/00 07/31/01 | 07/01/01 04/18/03
UUU | Petroleum Refineries | 04/29/03 10/23/03 |  | 06/30/02 10/30/03 | 07/01/02 11/24/03 |  |
VVV | Publicly Owned Treatment Works | 04/29/03 10/23/03 |  | 06/30/02 10/30/03 | 07/01/01 07/10/02 |  | 07/01/01 04/18/03
XXX | Ferroalloys Production | 04/29/03 10/23/03 |  | 06/30/02 10/30/03 | 07/01/01 07/10/02 | 07/01/00 07/31/01 | 07/01/01 04/18/03
AAAA | Municipal Solid Waste Landfills | 04/29/03 10/23/03 |  |  |  |  |
CCCC | Manufacturing Nutritional Yeast | 04/29/03 10/23/03 |  | 06/30/02 10/30/03 | 07/01/01 07/10/02 |  | 07/01/01 04/18/03
EEEE | Organic Liquids Distribution |  |  |  |  |  |
FFFF | Misc. Organic Chemical Prod. & Processes |  |  |  |  |  |
GGGG | Solvent Extraction for Vegetable Oil Production | 04/29/03 10/23/03 |  | 06/30/02 10/30/03 | 07/01/01 07/10/02 |  | 07/01/01 04/18/03
HHHH | Wet Formed Fiberglass Mat Production | 04/29/03 10/23/03 |  | 06/30/02 10/30/03 | 07/01/02 11/24/03 |  |
JJJJ | Paper & Other Web Surface Coating | 04/29/03 10/23/03 |  |  |  |  |
KKKK | Metal Can Surface Coating |  |  |  |  |  |
MMMM | Misc. Metal Parts and Products Surface Coating |  |  |  |  |  |
NNNN | Large Appliance Surface Coating | 04/29/03 10/23/03 |  |  |  |  |
OOOO | Fabric Printing, Coating & Dyeing |  |  |  |  |  |
PPPP | Plastic Parts Surface Coating |  |  |  |  |
QQQQ | Wood Building Products Surface Coating |  |  |  |  |  |
RRRR | Metal Furniture Surface Coating | 04/29/03 10/23/03 |  |  |  |  |
SSSS | Metal Coil Surface Coating | 04/29/03 10/23/03 |  | 06/30/02 10/30/03 | 07/01/02 11/24/03 |  |
TTTT | Leather Finishing Operations | 04/29/03 10/23/03 |  | 06/30/02 10/30/03 | 07/01/02 11/24/03 |  |
UUUU | Cellulose Products Manufacturing | 04/29/03 10/23/03 |  | 06/30/02 10/30/03 | 07/01/02 11/24/03 |  |
VVVV | Boat Manufacturing | 04/29/03 10/23/03 |  | 06/30/02 10/30/03 | 07/01/02 11/24/03 |  |
WWWW | Reinforced Plastic Composites | 04/29/03 10/23/03 |  |  |  |  |
XXXX | Rubber Tire Manufacturing | 04/29/03 10/23/03 |  |  |  |  |
YYYY | Combustion Turbines |  |  |  |  |  |
AAAA | Lime Manufacturing |  |  |  |  |  |
BBBB | Semiconductor Manufacturing |  |  |  |  |  |
CCCC | Coke Oven: Pushing, Quenching, & Battery Stacks | 04/29/03 10/23/03 |  |  |  |  |
EEEE | Iron and Steel Foundries |  |  |  |  |  |
FFFF | Integrated Iron & Steel |  |  |  |  |  |
GGGG | Site Remediation |  |  |  |  |  |
HHHH | Misc. Coating Manufacturing |  |  |  |  |
IIII | Mercury Cell Chlor-Alkali Plants |  |  |  |  |  |
JJJJ | Brick & Sturctural Clay Prod. Mfg. |  |  |  |  |  |
KKKK | Clay Ceramics Mfg. |  |  |  |  |  |
LLLL | Asphalt Roofing & Processing | 04/29/03 10/23/03 |  |  |  |  |
MMMM | Flexible Polyurethane Foam Fabircation Operation | 04/29/03 10/23/03 |  |  |  |  |
NNNN | Hydrochloric Acid Prod. | 04/29/03 10/23/03 |  |  |  |  |
PPPP | Engine Test Cells/Stands | 04/29/03 10/23/03 |  |  |  |  |
QQQQ | Friction Products Manufacturing | 04/29/03 10/23/03 |  |  |  |  |
RRRR | Taconite Iron Ore Processing |  |  |  |  |  |
SSSS | Refactory Products Mfg. | 04/29/03 10/23/03 |  |  |  |  |
TTTT | Primary magnesium Refining |  |  |  |  |  |

Summary of This Action

All sources subject to the requirements of 40 CFR parts 60, 61, and 63 are also subject to the equivalent requirements of the above-mentioned state or local agencies.

This action informs the public of delegations to the above-mentioned agencies of the above-referenced Federal regulations.

Authority: This document is issued under the authority of sections 101, 110, 112, and 301 of the CAA, as amended (42 U.S.C. 7401, 7410, 7412, and 7601).

Dated: December 1, 2003.
James B. Gulliford,
Regional Administrator, Region 7.

[FR Doc. 03-30706 Filed 12-10-03; 8:45 am]

BILLING CODE 6560-50-P